DEPARTMENT OF TRANSPORTATION

Federal Railroad Administration

[Docket Number FRA 2016-0002-N-15]

Proposed Agency Information Collection Activities; Comment Request

AGENCY: Federal Railroad Administration (FRA), U.S. Department of Transportation (DOT).

ACTION: Notice and request for comments.

SUMMARY: In accordance with the Paperwork Reduction Act of 1995 (PRA) and its implementing regulations, FRA seeks the Office of Management and Budget's (OMB) approval of the proposed information collection activities abstracted below. However, before submitting this proposed information collection request (ICR) to OMB, FRA is soliciting public comment on specific aspects of the activities identified below.

DATES: Comments must be received no later than August 2, 2016.

ADDRESSES: Submit written comments on any or all of the information activities described in this notice by mail to either Mr. Robert Brogan, Information Collection Clearance Officer, Office of Railroad Safety, Regulatory Safety Analysis Division, RRS-21, FRA, 1200 New Jersey Avenue SE., Mail Stop 25, Washington, DC 20590; or Ms. Kimberly Toone, Information Collection Clearance Officer, Office of Information Technology, RAD-20, FRA, 1200 New Jersey Avenue SE., Mail Stop 35, Washington, DC 20590. Commenters requesting that FRA acknowledge receipt of their respective comments must include a self-addressed stamped postcard stating, “Comments on OMB Control Number 2130-New,” and should also include the title of the collection of information. Alternatively, comments may be faxed to (202) 493-6216 or (202) 493-6497, or emailed to Mr. Brogan at Robert.Brogan@dot.gov, or Ms. Toone at Kimberly.Toone@dot.gov. Please refer to the assigned OMB control number in any correspondence submitted. FRA will summarize comments received in response to this notice in a subsequent notice and include them in its information collection submission to OMB for approval.

FOR FURTHER INFORMATION CONTACT: Mr. Robert Brogan, at (202) 493-6292, or Ms. Kimberly Toone, at (202) 493-6132. These telephone numbers are not toll-free.

SUPPLEMENTARY INFORMATION: The PRA, 44 U.S.C. 3501-3520, and its implementing regulations, 5 Code of Federal Regulations (CFR) part 1320, Rulemaking Procedures, require Federal agencies to provide 60 days' notice to the public for comment on information collection activities before seeking OMB approval. See 44 U.S.C. 3506(c)(2)(A); 5 CFR 1320.8(d)(1), 1320.10(e)(1), and 1320.12(a). Specifically, FRA invites interested respondents to comment on the following summary of proposed information collection activities regarding: (1) Whether the information collection activities are necessary for FRA to properly execute its functions, including whether the activities will have practical utility; (2) the accuracy of FRA's estimates of the burden of the information collection activities, including the validity of the methodology and assumptions used to determine the estimates; (3) ways FRA can enhance the quality, utility, and clarity of the information being collected; and (4) ways FRA can minimize the burden of information collection activities on the public by automated, electronic, mechanical, or other technological collection techniques or other forms of information technology (e.g., permitting electronic submission of responses). See 44 U.S.C. 3506(c)(2)(A); 5 CFR 1320.8(d)(1).

FRA believes soliciting public comment will promote its efforts to reduce the administrative and paperwork burdens associated with the collection of information Federal regulations mandate, including: (1) Reducing reporting burdens; (2) organizing information collection requirements in a “user friendly” format to improve the use of such information; and (3) accurately assessing the resources expended to retrieve and produce information requested. See 44 U.S.C. 3501.

Below is a brief summary of the proposed ICR that FRA will submit for OMB approval as required under the PRA:

Title: Survey of Plant and Insular Tourist Railroads subject to FRA Bridge Safety Standards (Title 49 CFR part 237).

OMB Control Number: 2130-New.

Abstract: FRA Bridge Safety Standards regulations (49 CFR part 237) require all owners of railroad track with a gage of 2 feet or more supported by a bridge to comply with this part. This includes track owners with bridges located within an industrial installation (plant) that is not part of the general railroad system of transportation (general system) but over which railroad equipment is moved by a general system railroad. To identify track owners subject to the requirements of part 237, Bridge Safety Standards, FRA relies on the railroad accident/incident reports (49 CFR part 225) to be filed monthly. However, plant and insular tourist railroads are exempt from the part 225, Railroad Accidents/Incidents: Reports Classification, and Investigations, reporting requirements.

FRA will request any railroad serving a plant and moving railroad equipment over bridges within the plant, or the plant itself, to advise FRA by email that there are railroad bridges within the installation potentially subject to FRA Bridge Safety Standards. FRA will also request insular tourist railroads, whose tracks are supported by one or more bridges, to advise FRA of their existence by email. The email notification should include the name of the installation or insular tourist railroad, address including city and State, contact name, telephone number, and email address. This survey will be ongoing with initial approval requested for 3 years.

FRA desires to identify plant and insular tourist railroads that may be subject to part 237 requirements, but are exempt from the part 225 reporting requirement to analyze risks these entities pose to railroad bridge safety and aid in planning bridge safety oversight activities and allocating resources.

Affected Public: Freight railroads, industrial installations (plants), insular tourist railroads.

Respondent Universe: 689 railroads, 500 industrial installations (estimated), 20 insular tourist railroads (estimated).

Frequency of Submission: On occasion.

Reporting Burden:

CFR section | Respondent universe | Total annual responses (emails) | Average time per response (minutes) | Total annual burden hours
Notification of Industrial Installations potentially subject to part 237 | Railroads, Industrial Installations | 200 | 15 | 50
Notification of Insular Tourist Railroads subject to part 237 | Insular Tourist Railroads | 10 | 15 | 2.5

Total Responses: 210.

Estimated Total Annual Burden: 53 hours.

Type of Request: Approval of a new information collection.

Status: Regular Review.

Under 44 U.S.C. 3507(a) and 5 CFR 1320.5(b) and 1320.8(b)(3)(vi), FRA informs all interested parties that FRA may not conduct or sponsor, and a respondent is not required to respond to, a collection of information unless it displays a currently valid OMB control number.

Authority: 44 U.S.C. 3501-3520.

Issued in Washington, DC, on May 31, 2016.
Corey Hill,
Executive Director.

[FR Doc. 2016-13142 Filed 6-2-16; 8:45 am]

BILLING CODE 4910-06-P